NUCLEAR REGULATORY COMMISSION

[Docket No. 50-157/97]

Notice and Solicitation of Comments; Pursuant to 10 CFR 20.1405 and 10 CFR 50.82(b)(5) Concerning Proposed Action To Decommission Ward Center for Nuclear Studies at Cornell University Reactor Facility

Notice is hereby given that the U.S. Nuclear Regulatory Commission (the Commission) has received an application from the Cornell University dated August 22, 2003, for a license amendment approving its proposed decommissioning plan for the Ward Center for Nuclear Studies (TRIGA Reactor, Docket No. 50-157, License R-80 and Zero Power Reactor, Docket No. 50-97, License R-89) located in Ithaca, New York.

In accordance with 10 CFR 20.1405, the Commission is providing notice and soliciting comments from local and State governments in the vicinity of the site and any Indian Nation or other indigenous people that have treaty or statutory rights that could be affected by the decommissioning. This notice and solicitation of comments is published pursuant to 10 CFR 20.1405, which provides for publication in the Federal Register and in a forum, such as local newspapers, letters to State or local organizations, or other appropriate forum, that is readily accessible to individuals in the vicinity of the site.

Comments should be provided within 30 days of the date of this notice to Patrick M. Madden, Chief, Research and Test Reactors Section, New, Research and Test Reactors Program, Division of Regulatory Improvement Programs, Mail Stop O12-G13, U.S. Nuclear Regulatory Commission, Washington, DC 20555.

Further, in accordance with 10 CFR 50.82(b)(5), notice is also provided to interested persons of the Commission's intent to approve the plan by amendment, subject to such conditions and limitations as it deems appropriate and necessary, if the plan demonstrates that decommissioning will be performed in accordance with the regulations in this chapter and will not be inimical to the common defense and security or to the health and safety of the public.

Copies of the application for a license amendment approving Cornell University's proposed decommissioning plan are available for public inspection at the Commission's Public Document Room (PDR), located at One White Flint North, 11555 Rockville Pike (first floor), Rockville, Maryland 20855-2738. The NRC maintains an Agencywide Documents Access and Management System (ADAMS), which provides text and image files of NRC's public documents. The initial application may be accessed through the NRC's Public Electronic Reading Room on the Internet at http://www.nrc.gov/reading-rm/adams.html, under ADAMS accession number ML032400421, ML032400186, ML032400205, and ML032400427. Persons who do not have access to ADAMS, or if there are problems in accessing the documents located in ADAMS, may contact the NRC PDR Reference staff at 1-800-397-4209, 301-415-4737, or by e-mail to pdr@nrc.gov.

Dated in Rockville, Maryland, this 1st day of August 2005.
For the Nuclear Regulatory Commission.
Alexander Adams, Jr.,
Acting Section Chief, Research and Test Reactors Section, New, Research and Test Reactors Program, Division of Regulatory Improvement Programs, Office of Nuclear Reactor Regulation.

[FR Doc. E5-4325 Filed 8-9-05; 8:45 am]

BILLING CODE 7590-01-P